DEPARTMENT OF LABOR

Mine Safety and Health Administration

Petitions for Modification

The following parties have filed petitions to modify the application of existing safety standards under section 101(c) of the Federal Mine Safety and Health Act of 1977.

1. Hopkins County Coal, LLC

[Docket No. M-2005-034-C]

Hopkins County Coal, LLC, 2668 State Route 120 East, Providence, Kentucky 42450 has filed a petition to modify the application of 30 CFR 75.1103-4(a) (Automatic fire sensor and warning device systems; minimum requirements; general) to its Elk Creek Mine (MSHA I.D. No. 15-18826) located in Hopkins County, Kentucky. The petitioner requests a modification of the existing standard to permit an alternative method of compliance for providing an automatic fire sensor and warning device system for identifying fire within each belt flight. The petitioner proposes to install a low-level carbon monoxide detection system as an early warning fire detection system in all belt entries where a monitoring system identifies a sensor location in lieu of identifying each belt flight. The petitioner has listed additional procedures in this petition that will be following when the proposed alternative method is implemented. The petitioner asserts that the proposed alternative method would provide at least the same measure of protection as the existing standard.

2. Scorpio Mining, Inc.

[Docket No. M-2005-035-C]

Scorpio Mining, Inc., 530 Fairmont Avenue, Fairmont, West Virginia 26554 has filed a petition to modify the application of 30 CFR 75.364(b)(4) (Weekly examination) to its King #1 Mine (MSHA I.D. No. 46-08880) located in Upshur County, West Virginia. Due to a large roof fall and the inability to see the seal, in lieu of weekly visual examinations, the petitioner proposes to inspect the air quality both inby and outby the #8 seal on a daily basis log both the oxygen quality and methane level, and keep the records in the mine office. If the change in oxygen quality between the inby and outby readings reaches 0.5 percent, the petitioner will increase inspections to every 4 hours during working shifts, and if the air quality falls below 19.5 percent oxygen, the petitioner will notify MSHA. The petitioner states that the weekly examiner will be equipped with an SCSR and will continually monitor the oxygen content of air while traveling the bleeder entries inby the roof fall; the #8 seal is on return air and poses no threat to employees; and the #8 seal is located on the low side of the King #1 Mine away from current and future mining operations. The petitioner asserts that compliance with the existing standard would result in a diminution of safety to the miners.

3. Hopkins County Coal, LLC

[Docket No. M-2005-036-C]

Hopkins County Coal, LLC, 2668 State Route 120 East, Providence, Kentucky 42450 has filed a petition to modify the application of 30 CFR 75.1101-1(b) (Deluge-type water spray systems) to its Elk Creek Mine (MSHA I.D. No. 15-18826) located in Hopkins County, Kentucky. The petitioner requests a modification of the existing standard to permit an alternative method of compliance in lieu of providing blow-off dust covers for deluge-type water spray nozzles. The petitioner will have a person who is trained in testing procedures specific to the deluge-type water spray fire suppression systems at each belt drive conduct a visual examination of each deluge-type water spray fire suppression system; conduct a functional test of the deluge-type water spray fire suppression systems to check for proper performance; and record the results of the examination and functional test in a book that will be maintained on the surface of the mine for one year and made available to the authorized representative of the Secretary. The petitioner states that procedures used to perform functional test will be posted at or near each belt drive that utilizes a deluge-type water spray fire suppression system, and if any malfunction or clogged nozzle is detected, corrections will be made immediately. The petitioner asserts that the proposed alternative method would provide at least the same measure of protection as the existing standard.

4. Bridger Coal Company

[Docket No. M-2005-037-C]

Bridger Coal Company, P.O. Box 68, Point of Rocks, Wyoming 82942 has filed a petition to modify the application of 30 CFR 75.1101-8 (Water sprinkler systems; arrangement of sprinklers) to its Bridger Underground Mine (MSHA I.D. No. 48-01646) located in Sweetwater County, Wyoming. The petitioner proposes to have a water sprinkler system that will consist of a single overhead pipe system with automatic sprinklers located no more than 10 feet apart so that the water discharged from the sprinklers will cover 50 feet of fire-resistant belt, or 150 feet of nonfire-resistant belt, adjacent to the belt drive. The petitioner states that the sprinkler will be located not more than 10 feet apart so that the water discharged from the sprinkler(s) will cover the drive motor(s), belt take-up, electrical controls, and gear reducing unit for each belt drive, and the sprinkler system will use either pendant or upright type sprinkler heads. The petitioner has listed in this petition for modification specific terms and conditions that would be followed when the proposed alternative method is implemented. The petitioner asserts that the proposed alternative method would provide at least the same measure of protection as the existing standard.

5. Alfred Brown Coal Company

[Docket No. M-2005-038-C]

Alfred Brown Coal Company, 71 Hill Road, Hegins, Pennsylvania 17938 has filed a petition to modify the application of 30 CFR 75.1100-2(a)(2) (Quantity and location of firefighting equipment) to its 7 Ft. Slope Mine (MSHA I.D. No. 36-08893) located in Schuylkill County, Pennsylvania. The petitioner requests a modification of the existing standard to permit the use of portable fire extinguishers to replace existing requirements where rock dust, water cars, and other water storage equipped with three 10 quart pails are not practical. The petitioner proposes to use two portable fire extinguishers near the slope bottom and an additional portable fire extinguisher within 500 feet of the working face for equivalent fire protection at the 7 Ft. Slope Mine. The petitioner asserts that the proposed alternative method would provide at least the same measure of protection as the existing standard.

Request for Comments

Persons interested in these petitions are encouraged to submit comments via Federal eRulemaking Portal: http://www.regulations.gov; E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before July 5, 2005. Copies of these petitions are available for inspection at that address.

Dated at Arlington, Virginia this 26th day of May 2005.
Rebecca J. Smith,
Acting Director, Office of Standards, Regulations, and Variances.

[FR Doc. 05-10939 Filed 6-1-05; 8:45 am]

BILLING CODE 4510-43-P